DEPARTMENT OF DEFENSE

Department of the Navy

Meeting of the Secretary of the Navy's Advisory Subcommittee on Naval History

AGENCY: Department of the Navy, DoD.

ACTION: Notice of open meeting.

SUMMARY: The Secretary of the Navy's Advisory Subcommittee on Naval History, a subcommittee of the Department of Defense Historical Advisory Committee, will meet to review naval historical activities since the last meeting of the Advisory Subcommittee on Naval History, which was conducted on September 29 and September 30, 2005, and to make comments and recommendations on these activities to the Secretary of the Navy. The meetings will be open to the public.

DATES: The meetings will be held on Thursday, September 21, 2006, from 8 a.m. to 4 p.m. and Friday, September 22, 2006, from 8 a.m. to 4 p.m.

ADDRESSES: The meetings will be held at the Navy Museum of the Naval Historical Center, 805 Kidder Breese Street, SE.; Building 76, Washington Navy Yard, DC 20374-5060.

FOR FURTHER INFORMATION CONTACT: Rear Admiral Paul E. Tobin, USN (Ret.), Director of Naval History, 805 Kidder Breese Street, SE.; Bldg. 57, Washington Navy Yard, DC 20374-5060, telephone 202-433-2210.

SUPPLEMENTARY INFORMATION: This notice of open meeting is provided in accordance with the Federal Advisory Committee Act (5 U.S.C. App. 2). The purpose of these meetings is to review naval historical activities since the last meeting of the Advisory Subcommittee on Naval History and to make comments and recommendations on these activities to the Secretary of the Navy.

Dated: September 7, 2006.
M.A. Harvison,
Lieutenant Commander, Judge Advocate General's Corps, U.S. Navy, Federal Register Liaison Officer.

[FR Doc. 06-7932 Filed 9-20-06; 8:45 am]

BILLING CODE 3810-FF-M